DEPARTMENT OF TRANSPORTATION

Federal Highway Administration

Notice of Final Federal Agency Actions on Proposed Highway in California

AGENCY: Federal Highway Administration (FHWA), DOT.

ACTION: Notice of Limitation on Claims for Judicial Review of Actions by FHWA.

SUMMARY: This notice announces actions taken by the FHWA that are final within the meaning of 23 U.S.C. 139(l)(1). The actions relate to a proposed highway project on Interstate 5 from State Route 91 in Orange County to Interstate 605 in Los Angeles County. Those actions grant licenses, permits, and approvals for the project.

DATES: By this notice, the FHWA is advising the public of final agency action subject to 23 U.S.C. 139(l)(1). A claim seeking judicial review of the Federal agency actions on the highway project will be barred unless the claim is filed on or before July 14, 2008. If the Federal law that authorizes judicial review of a claim provides a time period of less than 180 days for filing such claim, then that shorter time period still applies.

FOR FURTHER INFORMATION CONTACT: Steve Healow, Project Development Engineer, Federal Highway Administration, 650 Capitol Mall #4-100, Sacramento, CA 95814, telephone (916) 498-5849, e-mail: Steve.Healow@fhwa.dot.gov, or Ron Kosinski, Division of Environmental Planning, California Department of Transportation, District 7, 100 S. Main Street, Los Angeles, CA 90012, telephone (213) 897-0703, e-mail: Ron_Kosinski@dot.ca.gov.

SUPPLEMENTARY INFORMATION: Notice is hereby given that the FHWA has taken final agency actions subject to 23 U.S.C. 139(l)(1) by issuing a Record of Decision (ROD) constituting approval pursuant to the National Environmental Policy Act for the Interstate 5 Corridor Improvement Project in Los Angeles and Orange Counties, California. The primary purpose of the proposed project is to reduce existing and forecast traffic congestion. This project will widen Interstate 5 (I-5) from State Route 91 (SR 91) in Orange County north to Interstate 605 (I-605) in Los Angeles County. The new facility will have four mixed flow lanes and one High Occupancy Vehicle (HOV) lane in each direction.

The actions by the Federal agency and the laws under which such actions were taken are described in the Final Environmental Impact Statement (FEIS) for the project, approved on August 18, 2007, in the FHWA Record of Decision (ROD) issued on December 31, 2007, and in other documents in the FHWA project records. The FEIS, ROD, and other project records are available by contacting FHWA or the California Department of Transportation at the addresses provided above.

This notice applies to all Federal agency decisions as of the issuance date of this notice and all laws under which such actions were taken, including but not limited to:

1. General: National Environmental Policy Act (NEPA) [42 U.S.C. 4321-4351].

2. Air: Clean Air Act [42 U.S.C. 7401-7671(q)].

3. Migratory Bird Treaty Act [16 U.S.C. 703-712].

4. Historic and Cultural Resources: Section 106 of the National Historic Preservation Act of 1966, as amended [16 U.S.C. 470(f) et seq.].

5. Clean Water Act (section 401) [33 U.S.C. 1251-1377].

6. Federal Actions to Address Environmental Justice in Minority Populations and Low Income Populations.

7. E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: January 8, 2008.
Maiser Khaled,
Director, National Programs, Sacramento, California.

[FR Doc. E8-672 Filed 1-15-08; 8:45 am]

BILLING CODE 4910-RY-P